DEPARTMENT OF COMMERCE

Foreign-Trade Zones Board

[B-57-2023]

Foreign-Trade Zone (FTZ) 61, Notification of Proposed Production Activity; AIAC International Pharma, LLC; (Pharmaceutical Products); Arecibo, Puerto Rico

AIAC International Pharma, LLC submitted a notification of proposed production activity to the FTZ Board (the Board) for its facility in Arecibo, Puerto Rico within Subzone 61D. The notification conforming to the requirements of the Board's regulations (15 CFR 400.22) was received on November 7, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished product is Janumet® XR tablets (sitagliptin and metformin hydrochloride extended release) (duty-free).

The proposed foreign-status material/component is metformin hydrochloride active pharmaceutical ingredient (duty-free).

Public comment is invited from interested parties. Submissions shall be addressed to the Board's Executive Secretary and sent to: ftz@trade.gov. The closing period for their receipt is December 26, 2023.

A copy of the notification will be available for public inspection in the “Online FTZ Information System” section of the Board's website.

For further information, contact Christopher Wedderburn at Chris.Wedderburn@trade.gov.

Dated: November 7, 2023.
Elizabeth Whiteman,
Executive Secretary.

[FR Doc. 2023-24995 Filed 11-13-23; 8:45 am]

BILLING CODE 3510-DS-P